Proclamation 10488 of October 31, 2022

National Family Caregivers Month, 2022

By the President of the United States of America

A Proclamation

During National Family Caregivers Month, we recognize the love and sacrifice of more than 50 million Americans providing crucial care and medical assistance to parents, children, siblings, and other loved ones, ensuring their health and dignity.

Today, far too many Americans find themselves sandwiched between the enormous tasks of supporting aging parents, raising young children, and earning a living. Others bear the responsibility of caring for loved ones with a disability or looking after wounded, ill, or injured service members and veterans who have sacrificed so much for us all. The truth is, at some point in our lives, each of us will likely need to be a family caregiver—but the burden falls especially hard on those who cannot afford support. Women, people of color, and immigrants shoulder a disproportionate share of the obligation, sometimes forced to leave good jobs to instead provide care. Their work is a profound service to their families and to our Nation, but they are still too often unseen, undervalued, and unpaid.

No one should have to choose between a paycheck and looking after a loved one. My Administration is committed to easing that squeeze on working families and getting caregivers the resources and respect they deserve. The Department of Health and Human Services' National Strategy to Support Family Caregivers outlines nearly 350 actions the Federal Government can take to support family caregivers' health, well-being, and financial security. Our American Rescue Plan provided $145 million to help the National Family Caregiver Support Program deliver counseling, training, and short-term relief to family and other informal care providers. We have expanded the Department of Veterans Affairs Program of Comprehensive Assistance for Family Caregivers so more veteran caregivers have the financial and mental health support they deserve, and we helped launch the “Hidden Helpers” initiative to serve the 2.3 million children now living with a disabled veteran. Meanwhile, we have pushed the Congress to lower child and elder care costs across the country and provide paid family and medical leave. We have more to do to win that fight, and I will not give up.

Family caregivers are the backbone of our Nation's long-term care system, doing essential work with devotion, often at great emotional and financial cost. We owe them. It is time to bring their service out of the shadows and celebrate and support them in living their own happy, healthy, and fulfilling lives.

NOW, THEREFORE, I, JOSEPH R. BIDEN JR., President of the United States of America, by virtue of the authority vested in me by the Constitution and the laws of the United States, do hereby proclaim November 2022 as National Family Caregivers Month. I encourage all Americans to reach out to those who provide care for our Nation's family members, friends, and neighbors in need, to honor and thank them.

IN WITNESS WHEREOF, I have hereunto set my hand this thirty-first day of October, in the year of our Lord two thousand twenty-two, and of the Independence of the United States of America the two hundred and forty-seventh.

[FR Doc. 2022-24166

Filed 11-2-22; 11:15 am]

Billing code 3395-F3-P